DEPARTMENT OF ENERGY

Federal Energy Regulatory Commission

[Docket No. RP07-149-000]

Gulf South Pipeline Company, LP; Notice of Technical Conference

March 20, 2007.

Take notice that the Commission will convene a technical conference in the referenced proceeding on Tuesday, April 10, 2007, at 9 a.m. (EDT), in a room to be designated at the offices of the Federal Energy Regulatory Commission, 888 First Street, NE., Washington DC 20426.

The Commission's February 28, 2007 order in this proceeding directed that a technical conference be held to address the technical, engineering and operational issues raised by Gulf South Pipeline Company, LP's (Gulf South) proposed gas quality specifications filed in Docket No. RP07-149-000.¹

¹ Gulf South Pipeline Company, LP, 118 FERC ¶ 61,161 (2007).

Gulf South and the other parties should be prepared to address the following topics at the technical conference and to include technical, engineering and operational information in support:

1. Whether Gulf South's tariff proposals are consistent with the Interim Guidelines in the Natural Gas Council's White Papers on Natural Gas Interchangeability and Non-Combustion End Use and Liquid Hydrocarbon Drop Out in Natural Gas Infrastructure?

2. To the extent Gulf South's proposals are not consistent with the guidelines, has Gulf South supported any divergence from the Interim Guidelines?

3. Whether Gulf South's current operating parameters are sufficient to ensure the acceptance of gas by interconnecting pipelines?

FERC conferences are accessible under section 508 of the Rehabilitation Act of 1973. For accessibility accommodations please send an e-mail to accessibility@ferc.gov or call toll free (866) 208-3372 (voice) or 202-502-8659 (TTY), or send a fax to 202-208-2106 with the required accommodations.

All interested persons are permitted to attend. For further information please contact David Maranville at (202) 502-6351 or e-mail david.maranville@ferc.gov.

Philis J. Posey,
Acting Secretary.

[FR Doc. E7-5460 Filed 3-23-07; 8:45 am]

BILLING CODE 6717-01-P